RECOVERY ACCOUNTABILITY AND TRANSPARENCY BOARD

Proposed Information Collection Activities

ACTION: Notice of submission to OMB and 30-day public comment period.

SUMMARY: The Recovery Accountability and Transparency Board (Board) is giving public notice that it has submitted to the Office of Management and Budget (OMB) for approval the information collection described in this notice. The public is invited to comment on the proposed information collection pursuant to the Paperwork Reduction Act of 1995.

DATES: Written comments must be submitted to OMB at the address below on or before January 11, 2010 to be assured of consideration.

ADDRESSES: Send comments to Ms. Sharon Mar, Desk Officer for the Recovery Accountability and Transparency Board, Office of Management and Budget, New Executive Office Building, Washington, DC 20503; fax: 202-395-5167; or electronically mailed to smar@omb.eop.gov.

SUPPLEMENTARY INFORMATION: Pursuant to the Paperwork Reduction Act of 1995 (PRA), Pubic Law 104-13, section 2, 109 Stat. 163 (1995) (codified as revised at 44 U.S.C. 3501-3520), the Board invites the general public and other federal agencies to comment on the proposed information collection. The Board published a notice of proposed collection for this information collection on August 31, 2009 (74 FR 44814). No comments were received. However, the first reporting period under the American Recovery and Reinvestment Act of 2009 has since occurred, and the Board has therefore been able to modify its estimated number of respondents accordingly. The Board has submitted the described information collection to OMB for approval.

In response to this notice, comments and suggestions should address one or more of the following points: (a) Whether the proposed information collection is necessary for the proper performance of the functions of the Board; (b) the accuracy of the Board's estimate of the burden of the proposed information collection; (c) ways to enhance the quality, utility, and clarity of the information to be collected; (d) ways to minimize the burden of the collection of information on respondents, including the use of information technology; and (e) whether small businesses are affected by this collection. In this notice, the Board is soliciting comments concerning the following information collection:

Title of Collection: FederalReporting.gov Recipient Registration System.

OMB Control No.: 0430-0002.

Description: Section 1512 of the American Recovery and Reinvestment Act of 2009, Public Law 111-5, 123 Stat. 115 (Recovery Act), requires recipients of Recovery Act funds to report on the use of those funds. These reports are to be submitted to FederalReporting.gov, and certain information from these reports will later be posted to the publicly available Web site Recovery.gov.

The FederalReporting.gov Recipient Registration System (FRRS) was developed to protect the Board and FederalReporting.gov users from individuals seeking to gain unauthorized access to user accounts on FederalReporting.gov. FRRS is used for the purpose of verifying the identity of the user; allowing users to establish an account on FederalReporting.gov; providing users access to their FederalReporting.gov account for reporting data; allowing users to customize, update, or terminate their accounts with FederalReporting.gov; renewing or revoking a user's account on FederalReporting.gov, thereby protecting FederalReporting.gov and FederalReporting.gov users from potential harm caused by individuals with malicious intentions gaining unauthorized access to the system.

To assist in this goal, FRRS will collect a registrant's name, e-mail address, telephone number and extension, three security questions and answers, and, by way of a DUNS number, organization information. The person registering for FederalReporting.gov will generate a self-assigned password that will be stored on the FRRS, but will only be accessible to the registering individual.

Affected Public: Private sector and state, local, and tribal governments.

Total Estimated Number of Respondents: 88,000.

Frequency of Responses: Once.

Total Estimated Annual Burden Hours: 7,333.

Ivan J. Flores,
Paralegal Specialist, Recovery Accountability and Transparency Board.

[FR Doc. E9-29436 Filed 12-9-09; 8:45 am]

BILLING CODE 6820-GA-P